DEPARTMENT OF THE INTERIOR

National Park Service

Notice of Inventory Completion: Klamath County Museums, Klamath Falls, OR

AGENCY: National Park Service, Interior.

ACTION: Notice.

Notice is here given in accordance with the Native American Graves Protection and Repatriation Act (NAGPRA), 25 U.S.C. 3003, of the completion of an inventory of human remains in the possession of Klamath County Museums, Klamath Falls, OR. The human remains were removed from Siskiyou County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Klamath County Museums' professional staff with the assistance of Paleo-osteologist Dr. Eric P. Gustafson, in consultation with representatives of the Alturas Indian Rancheria, California; Burns Paiute Tribe; Confederated Tribes of the Coos, Lower Umpqua and Siuslaw Indians of Oregon; Confederated Tribes of the Grand Ronde Community of Oregon; Confederated Tribes of the Siletz Reservation, Oregon; Confederated Tribes of the Umatilla Indian Reservation, Oregon; Confederated Tribes of the Warm Springs Reservation of Oregon; Coquille Tribe of Oregon; Cow Creek Band of Umpqua Indians of Oregon; Fort Bidwell Indian Community of the Fort Bidwell Reservation of California; Fort McDermitt Paiute and Shoshone Tribes of the Fort McDermitt Indian Reservation, Nevada and Oregon; Hoopa Valley Tribe, California; Karuk Tribe of California; Klamath Tribes, Oregon; Lovelock Paiute Tribe of the Lovelock Indian Colony, Nevada; Modoc Tribe of Oklahoma; Paiute-Shoshone Tribe of the Fallon Reservation and Colony, Nevada; Pit River Tribe, California; Pyramid Lake Paiute Tribe of the Pyramid Lake Reservation, Nevada; Reno-Sparks Indian Colony, Nevada; Resighini Rancheria, California; Summit Lake Paiute Tribe of Nevada; Winnemucca Indian Colony of Nevada; and Yurok Tribe of the Yurok Reservation, California.

In the summer of 1957, human remains representing a minimum of one individual were removed from an archeological site near Mount Dome, Siskiyou County, CA, during excavations by Klamath County Museums staff. No known individual was identified. No associated funerary objects are present.

Klamath County Museums' professional staff estimated the human remains to be approximately 500 years old based on the other materials collected from the site. Archeological material collected, but determined not to be associated funerary objects, such as obsidian points, mortar and pestle fragments, obsidian and chert chips, projectile points, bone awls, beads, and stone knives, show a continuity in culture to the Klamath or Modoc people. Furthermore, the site near the Mount Dome area is located within the ancestral lands of the Klamath/Modoc people.

The Klamath Tribes, Oregon and Modoc Tribe of Oklahoma have a shared ancestry. Following the conclusion of the Modoc wars, the Modoc people were relocated to Oklahoma. In 1888, the Modoc reservation was established in Oklahoma. In 1909, permission was granted to the Modoc to return to Oregon. Those who returned became part of the Klamath Tribes, Oregon. The present-day descendants of the Klamath or Modoc people are members of the present-day Klamath Tribes, Oregon and Modoc Tribe of Oklahoma.

Officials of the Klamath County Museums have determined that, pursuant to 25 U.S.C. 3001 (9-10), the human remains described above represent the physical remains of one individual of Native American ancestry. Officials of the Klamath County Museums also have determined that, pursuant to 25 U.S.C. 3001 (2), there is a relationship of shared group identity that can be reasonably traced between the Native American human remains and the Klamath Tribes, Oregon and Modoc Tribe of Oklahoma.

Representatives of any other Indian tribe that believes itself to be culturally affiliated with the human remains should contact Todd Kepple, Manager, Klamath County Museums, 1451 Main Street, Klamath Falls, OR 97601, telephone (541) 883-4208, before January 29, 2009. Repatriation of the human remains to the Klamath Tribes, Oregon and/or Modoc Tribe of Oklahoma may proceed after that date if no additional claimants come forward.

Klamath County Museums is responsible for notifying the Alturas Indian Rancheria, California; Burns Paiute Tribe; Confederated Tribes of the Coos, Lower Umpqua and Siuslaw Indians of Oregon; Confederated Tribes of the Grand Ronde Community of Oregon; Confederated Tribes of the Siletz Reservation, Oregon; Confederated Tribes of the Umatilla Indian Reservation, Oregon; Confederated Tribes of the Warm Springs Reservation of Oregon; Coquille Tribe of Oregon; Cow Creek Band of Umpqua Indians of Oregon; Fort Bidwell Indian Community of the Fort Bidwell Reservation of California; Fort McDermitt Paiute and Shoshone Tribes of the Fort McDermitt Indian Reservation, Nevada and Oregon; Hoopa Valley Tribe, California; Karuk Tribe of California; Klamath Tribes, Oregon; Lovelock Paiute Tribe of the Lovelock Indian Colony, Nevada; Modoc Tribe of Oklahoma; Paiute-Shoshone Tribe of the Fallon Reservation and Colony, Nevada; Pit River Tribe, California; Pyramid Lake Paiute Tribe of the Pyramid Lake Reservation, Nevada; Reno-Sparks Indian Colony, Nevada; Resighini Rancheria, California; Summit Lake Paiute Tribe of Nevada; Winnemucca Indian Colony of Nevada; and Yurok Tribe of the Yurok Reservation, California that this notice has been published.

Dated: November 14, 2008
Sherry Hutt,
Manager, National NAGPRA Program.

[FR Doc. E8-30893 Filed 12-29-08; 8:45 am]

BILLING CODE 4312-50-S